DEPARTMENT OF EDUCATION

National Advisory Committee on Institutional Quality and Integrity (NACIQI)

AGENCY: National Advisory Committee on Institutional Quality and Integrity (NACIQI), U.S. Department of Education.

ACTION: Request for student nominees for appointment to serve on the National Advisory Committee on Institutional Quality and Integrity (NACIQI).

SUMMARY: At least one member of the National Advisory Committee on Institutional Quality and Integrity (NACIQI) must be a student who, at the time of the appointment by the Secretary of Education, is attending an institution of higher education.

DATES: Nominations must be received no later than Friday, May 28, 2021.

ADDRESSES: You may submit nomination(s), including attachments, via email to: cmtemgmtoffice@ed.gov. (Please specify in the email subject line “NACIQI Student Nomination.”)

For questions, please contact the U.S. Department of Education, Committee Management Office at (202) 401-3677.

SUPPLEMENTARY INFORMATION: NACIQI's Statutory Authority and Function: The NACIQI is established under Section 114 of the HEA and is composed of 18 members who are appointed—

(A) On the basis of the individuals' experience, integrity, impartiality, and good judgment.

(B) From among individuals who are representatives of, or knowledgeable concerning, education and training beyond secondary education, representing all sectors and types of institutions of higher education; and

(C) On the basis of the individuals' technical qualifications, professional standing, and demonstrated knowledge in the fields of accreditation and administration of higher education.

The NACIQI meets at least twice a year and advises the Secretary of Education with respect to:

• The establishment and enforcement of the standards of accrediting agencies or associations under subpart 2 of part H of Title IV, HEA.

• The recognition of specific accrediting agencies or associations.

• The preparation and publication of the list of nationally recognized accrediting agencies and associations.

• The eligibility and certification process for institutions of higher education under Title IV of the HEA, together with recommendations for improvements in such process.

• The relationship between (1) accreditation of institutions of higher education and the certification and eligibility of such institutions, and (2) State licensing responsibilities with respect to such institutions.

• Any other advisory functions relating to accreditation and institutional eligibility that the Secretary may prescribe by regulation.

Nomination Process: Interested persons, stakeholders, or organizations may nominate a qualified student(s). To nominate a student(s) or self-nominate for appointment to serve on the NACIQI, please submit the following information to the U.S. Department of Education:

• A cover letter addressed to the Secretary of Education as follows: Honorable Miguel Cardona, Secretary of Education, U.S. Department of Education, 400 Maryland Avenue SW, Washington, DC 20202. In the letter, please note your reason(s) for submitting the nomination.

• A copy of the nominee's current resume.

• Contact information for the nominee (name, address, contact phone number, and email address).

In addition, the cover letter must include a statement affirming the nominee (if you are nominating someone other than yourself) has agreed to be nominated and is willing to serve on the NACIQI if appointed by the Secretary of Education. Student nominees should be broadly knowledgeable about higher education and accreditation.

Electronic Access to this Document: The official version of this document is the document published in the Federal Register. You may access the official edition of the Federal Register and the Code of Federal Regulations at www.govinfo.gov. At this site, you can view this document, as well as all other documents of this Department published in the Federal Register, in text or Portable Document Format (PDF). To use PDF, you must have Adobe Acrobat Reader, which is available free at the site.

You may also access documents of the Department published in the Federal Register by using the article search feature at: www.federalregister.gov. Specifically, through the advanced search feature at this site, you can limit your search to documents published by the Department.

Miguel Cardona,
Secretary of Education.

[FR Doc. 2021-09514 Filed 5-4-21; 8:45 am]

BILLING CODE P